DEPARTMENT OF ENERGY

Federal Energy Regulatory Commission

[Docket No. RP00-265-000]

Northern Natural Gas Company; Notice of Proposed Changes in FERC Gas Tariff

May 4, 2000.

Take notice that on May 1, 2000, Northern Gas Company (Northern), tendered for filing in its FERC Gas Tariff, Fifth Revised Volume No. 1, the following tariff sheets proposed to be effective June 1, 2000.

Thirteenth Revised Sheet No. 54

Eleventh Revised Sheet No. 61

Eleventh Revised Sheet No. 62

Eleventh Revised Sheet No. 63

Eleventh Revised Sheet No. 64

Northern states that the revised tariff sheets are being filed in accordance with Section 53 of Northern's General Terms and Conditions, which requires Northern to adjust its fuel Unaccounted for (UAF) gas percentages each June 1.

Northern further states that copies of the filing have been mailed to each of its customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-11622 Filed 5-09-00; 8:45 am]

BILLING CODE 6717-01-M